DEPARTMENT OF ENERGY

Federal Energy Regulatory Commission

Combined Notice of Filings #1

Take notice that the Commission received the following electric rate filings:

Docket Numbers: ER19-2150-002.

Applicants: Shawville Power, LLC.

Description: Compliance filing: Informational Filing Regarding Upstream Transfer of Ownership to be effective N/A.

Filed Date: 8/9/23.

Accession Number: 20230809-5104.

Comment Date: 5 p.m. ET 8/30/23.

Docket Numbers: ER19-2151-002.

Applicants: New Castle Power, LLC.

Description: Compliance filing: Informational Filing Regarding Upstream Transfer of Ownership to be effective N/A.

Filed Date: 8/9/23.

Accession Number: 20230809-5090.

Comment Date: 5 p.m. ET 8/30/23.

Docket Numbers: ER19-2152-002.

Applicants: Brunot Island Power, LLC.

Description: Compliance filing: Informational Filing Regarding Upstream Transfer of Ownership to be effective N/A.

Filed Date: 8/9/23.

Accession Number: 20230809-5075.

Comment Date: 5 p.m. ET 8/30/23.

Docket Numbers: ER19-2153-002.

Applicants: Gilbert Power, LLC.

Description: Compliance filing: Informational Filing Regarding Upstream Transfer of Ownership to be effective N/A.

Filed Date: 8/9/23.

Accession Number: 20230809-5079.

Comment Date: 5 p.m. ET 8/30/23.

Docket Numbers: ER19-2154-002.

Applicants: Sayreville Power, LLC.

Description: Compliance filing: Informational Filing Regarding Upstream Transfer of Ownership to be effective N/A.

Filed Date: 8/9/23.

Accession Number: 20230809-5096.

Comment Date: 5 p.m. ET 8/30/23.

Docket Numbers: ER19-2155-002.

Applicants: Portland Power, LLC.

Description: Compliance filing: Informational Filing Regarding Upstream Transfer of Ownership to be effective N/A.

Filed Date: 8/9/23.

Accession Number: 20230809-5095.

Comment Date: 5 p.m. ET 8/30/23.

Docket Numbers: ER19-2156-002.

Applicants: Warren Generation, LLC.

Description: Compliance filing: Informational Filing Regarding Upstream Transfer of Ownership to be effective N/A.

Filed Date: 8/9/23.

Accession Number: 20230809-5116.

Comment Date: 5 p.m. ET 8/30/23.

Docket Numbers: ER19-2157-002.

Applicants: Mountain Power, LLC.

Description: Compliance filing: Informational Filing Regarding Upstream Transfer of Ownership to be effective N/A.

Filed Date: 8/9/23.

Accession Number: 20230809-5086.

Comment Date: 5 p.m. ET 8/30/23.

Docket Numbers: ER19-2158-002.

Applicants: Orrtanna Power, LLC.

Description: Compliance filing: Informational Filing Regarding Upstream Transfer of Ownership to be effective N/A.

Filed Date: 8/9/23.

Accession Number: 20230809-5092.

Comment Date: 5 p.m. ET 8/30/23.

Docket Numbers: ER19-2159-002.

Applicants: Shawnee Power, LLC.

Description: Compliance filing: Informational Filing Regarding Upstream Transfer of Ownership to be effective N/A.

Filed Date: 8/9/23.

Accession Number: 20230809-5102.

Comment Date: 5 p.m. ET 8/30/23.

Docket Numbers: ER19-2160-002.

Applicants: Titus Power, LLC.

Description: Compliance filing: Informational Filing Regarding Upstream Transfer of Ownership to be effective N/A.

Filed Date: 8/9/23.

Accession Number: 20230809-5109.

Comment Date: 5 p.m. ET 8/30/23.

Docket Numbers: ER19-2161-002.

Applicants: Hamilton Power, LLC.

Description: Compliance filing: Informational Filing Regarding Upstream Transfer of Ownership to be effective N/A.

Filed Date: 8/9/23.

Accession Number: 20230809-5080.

Comment Date: 5 p.m. ET 8/30/23.

Docket Numbers: ER19-2162-002.

Applicants: Blossburg Power, LLC.

Description: Compliance filing: Informational Filing Regarding Upstream Transfer of Ownership to be effective N/A.

Filed Date: 8/9/23.

Accession Number: 20230809-5118.

Comment Date: 5 p.m. ET 8/30/23.

Docket Numbers: ER19-2163-002.

Applicants: Hunterstown Power, LLC.

Description: Compliance filing: Informational Filing Regarding Upstream Transfer of Ownership to be effective N/A.

Filed Date: 8/9/23.

Accession Number: 20230809-5082.

Comment Date: 5 p.m. ET 8/30/23.

Docket Numbers: ER19-2164-002.

Applicants: Tolna Power, LLC.

Description: Compliance filing: Informational Filing Regarding Upstream Transfer of Ownership to be effective N/A.

Filed Date: 8/9/23.

Accession Number: 20230809-5110.

Comment Date: 5 p.m. ET 8/30/23.

Docket Numbers: ER23-1123-002.

Applicants: Portland General Electric Company.

Description: Compliance filing: Compliance Filing Revising PGE OATT Attachment P to be effective 4/16/2023.

Filed Date: 8/9/23.

Accession Number: 20230809-5050.

Comment Date: 5 p.m. ET 8/30/23.

Docket Numbers: ER23-1372-002.

Applicants: Gaucho Solar LLC.

Description: Tariff Amendment: Response to Deficiency Letter to be effective 5/1/2023.

Filed Date: 8/9/23.

Accession Number: 20230809-5132.

Comment Date: 5 p.m. ET 8/30/23.

Docket Numbers: ER23-2138-001.

Applicants: Midcontinent Independent System Operator, Inc., Ameren Illinois Company.

Description: Tariff Amendment: Midcontinent Independent System Operator, Inc. submits tariff filing per 35.17(b): 2023-08-09_SA 4085 Ameren IL-SIPC Interconnection Agreement to be effective 12/31/9998.

Filed Date: 8/9/23.

Accession Number: 20230809-5067.

Comment Date: 5 p.m. ET 8/30/23.

Docket Numbers: ER23-2585-000.

Applicants: American Transmission Company LLC.

Description: Request for Authorization for Abandoned Plant Incentive Rate Treatment of American Transmission Company LLC.

Filed Date: 8/8/23.

Accession Number: 20230808-5127.

Comment Date: 5 p.m. ET 8/29/23.

Docket Numbers: ER23-2586-000.

Applicants: PJM Interconnection, L.L.C.

Description: § 205(d) Rate Filing: Original ISA, Service Agreement No. 7013; Queue No. AD2-179 to be effective 7/10/2023.

Filed Date: 8/9/23.

Accession Number: 20230809-5018.

Comment Date: 5 p.m. ET 8/30/23.

Docket Numbers: ER23-2587-000.

Applicants: PJM Interconnection, L.L.C.

Description: § 205(d) Rate Filing: Original ISA, SA No. 7015; Queue No. AD2-077 to be effective 7/10/2023.

Filed Date: 8/9/23.

Accession Number: 20230809-5022.

Comment Date: 5 p.m. ET 8/30/23.

Docket Numbers: ER23-2588-000.

Applicants: Midcontinent Independent System Operator, Inc.

Description: § 205(d) Rate Filing: 2023-08-09_SA 3150 CMS Energy Resource-METC 1st Rev GIA (J571) to be effective 8/3/2023.

Filed Date: 8/9/23.

Accession Number: 20230809-5051.

Comment Date: 5 p.m. ET 8/30/23.

Docket Numbers: ER23-2589-000.

Applicants: PJM Interconnection, L.L.C.

Description: § 205(d) Rate Filing: Original ISA, SA No. 7017; Queue No. NQ-187 to be effective 7/10/2023.

Filed Date: 8/9/23.

Accession Number: 20230809-5054.

Comment Date: 5 p.m. ET 8/30/23.

Docket Numbers: ER23-2590-000.

Applicants: Grover Hill Wind, LLC.

Description: Baseline eTariff Filing: Grover Hill Wind MBR Application Filing to be effective 10/9/2023.

Filed Date: 8/9/23.

Accession Number: 20230809-5057.

Comment Date: 5 p.m. ET 8/30/23.

Docket Numbers: ER23-2591-000.

Applicants: Capitol District Energy Center Cogeneration Associates.

Description: Tariff Amendment: Notice of Cancellation of Market-Based Rate Tariff to be effective 8/10/2023.

Filed Date: 8/9/23.

Accession Number: 20230809-5058.

Comment Date: 5 p.m. ET 8/30/23.

Docket Numbers: ER23-2592-000.

Applicants: Public Service Company of New Mexico.

Description: § 205(d) Rate Filing: Transmission Construction and Interconnection Agreement with GridLiance to be effective 7/12/2023.

Filed Date: 8/9/23.

Accession Number: 20230809-5062.

Comment Date: 5 p.m. ET 8/30/23.

Docket Numbers: ER23-2593-000.

Applicants: Alabama Power Company, Georgia Power Company, Mississippi Power Company.

Description: § 205(d) Rate Filing: Alabama Power Company submits tariff filing per 35.13(a)(2)(iii: Duke Energy Renewables Solar (Durant Solar) LGIA Filing to be effective 7/28/2023.

Filed Date: 8/9/23.

Accession Number: 20230809-5063.

Comment Date: 5 p.m. ET 8/30/23.

Docket Numbers: ER23-2594-000.

Applicants: PJM Interconnection, L.L.C.

Description: § 205(d) Rate Filing: Original ISA, Service Agreement No. 7027; Queue No. AF1-321/AF2-001/AF2-002 to be effective 7/10/2023.

Filed Date: 8/9/23.

Accession Number: 20230809-5085.

Comment Date: 5 p.m. ET 8/30/23.

Docket Numbers: ER23-2595-000.

Applicants: Stony Creek Wind Farm, LLC.

Description: Compliance filing: Informational Filing Regarding Upstream Change In Control to be effective N/A.

Filed Date: 8/9/23.

Accession Number: 20230809-5089.

Comment Date: 5 p.m. ET 8/30/23.

Docket Numbers: ER23-2597-000.

Applicants: PJM Interconnection, L.L.C.

Description: § 205(d) Rate Filing: Original ISA, Service Agreement No. 7029; Queue No. AD2-047 to be effective 7/10/2023.

Filed Date: 8/9/23.

Accession Number: 20230809-5105.

Comment Date: 5 p.m. ET 8/30/23.

Docket Numbers: ER23-2598-000.

Applicants: Cleco Power LLC.

Description: Compliance filing: Compliance Filing Related to Docket No. ER23-1981-000 to be effective 8/10/2023.

Filed Date: 8/9/23.

Accession Number: 20230809-5115.

Comment Date: 5 p.m. ET 8/30/23.

Docket Numbers: ER23-2599-000.

Applicants: Louisiana Generating LLC.

Description: Compliance filing: Compliance Filing Related to Docket No. ER23-1981-000 to be effective 8/10/2023.

Filed Date: 8/9/23.

Accession Number: 20230809-5117.

Comment Date: 5 p.m. ET 8/30/23.

Take notice that the Commission received the following electric securities filings:

Docket Numbers: ES23-66-000.

Applicants: Interstate Power and Light Company.

Description: Application Under Section 204 of the Federal Power Act for Authorization to Issue Securities of Interstate Power and Light Company.

Filed Date: 8/7/23.

Accession Number: 20230807-5196.

Comment Date: 5 p.m. ET 8/28/23.

Take notice that the Commission received the following qualifying facility filings:

Docket Numbers: QF23-284-000.

Applicants: WED Coventry Five, LLC.

Description: Revised Refund Report of WED Coventry Five, LLC.

Filed Date: 8/8/23.

Accession Number: 20230808-5129.

Comment Date: 5 p.m. ET 8/29/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Kimberly D. Bose,
Secretary.

[FR Doc. 2023-17471 Filed 8-14-23; 8:45 am]

BILLING CODE 6717-01-P